DEPARTMENT OF COMMERCE

International Trade Administration

[A-570-855]

Certain Non-Frozen Apple Juice Concentrate From the People's Republic of China: Amended Final Results of New Shipper Review

AGENCY: Import Administration, International Trade Administration, Department of Commerce.

ACTION: Notice of amended final results of new shipper review.

SUMMARY: On December 16, 2003, the Department of Commerce announced the final results of the administrative review of the antidumping duty order on non-frozen apple juice concentrate, from the People's Republic of China for the period June 1, 2002, through November 30, 2002. These final results were published in the Federal Register on December 22, 2003.

On December 22, 2003, Yantai Golden Tide Fruits & Vegetable Food Company filed allegations of ministerial errors. Based on these allegations, we made changes to the margin calculation of Yantai Golden Tide Fruits & Vegetable Food Company. The final weighted-average dumping margin for this company is listed below in the section entitled “Amended Final Results.”

EFFECTIVE DATE: February 12, 2004.

FOR FURTHER INFORMATION CONTACT: Audrey Twyman or Stephen Cho, Group 1, Office I, Antidumping/Countervailing Duty Enforcement, Import Administration, International Trade Administration, U.S. Department of Commerce, 14th Street and Constitution Avenue, NW., Washington, DC 20230; telephone (202) 482-3534 and (202) 482-3798, respectively.

Background

On December 22, 2003, the Department of Commerce (“the Department”) published the final results in this administrative review. See Certain Non-Frozen Apple Juice Concentrate From the People's Republic of China: Final Results of New Shipper Review, 68 FR 71065 (December 22, 2003) (“Final Results”). The period of review is June 1, 2002, through November 30, 2002.

On December 22, 2003, we received ministerial error allegations, filed pursuant to section 751(h) of the Tariff Act of 1930, as amended, (“the Act”) and 19 CFR 351.224(c)(2), from Yantai Golden Tide Fruits & Vegetable Food Company (“Golden Tide”) regarding the Department's final margin calculation. Golden Tide requested that we correct the errors and publish a notice of amended final results in the Federal Register, pursuant to section 751(h) of the Act, and 19 CFR 351.224(e).

Scope of Review

The product covered by this order is certain non-frozen apple juice concentrate (“AJC”). Certain AJC is defined as all non-frozen concentrated apple juice with a Brix scale of 40 or greater, whether or not containing added sugar or other sweetening matter, and whether or not fortified with vitamins or minerals. Excluded from the scope of this order are: frozen concentrated apple juice; non-frozen concentrated apple juice that has been fermented; and non-frozen concentrated apple juice to which spirits have been added.

The merchandise subject to this order is classified in the Harmonized Tariff Schedule of the United States (“HTSUS”) at subheadings 2106.90.52.00, and 2009.70.00.20 before January 1, 2002, and 2009.79.00.20 after January 1, 2002. Although the HTSUS subheadings are provided for convenience and customs purposes, the written description of the scope of the order is dispositive.

Amended Final Results

In its ministerial allegations, Golden Tide disagrees with the Department's calculations of the financial ratios, points out an inconsistency in the margin calculation program, and argues that the Department is double counting an expense in ocean freight and brokerage and handling. After analyzing the record of this review, we have determined, in accordance with section 771(h) of the Act and 19 CFR 351.224, that we made a ministerial error in the margin calculation program for Golden Tide. We do not agree that we made a ministerial error in the calculation of the financial ratios, or ocean freight and brokerage and handling. For a detailed discussion of the ministerial error allegations and the Department's analysis, see February 6, 2004 memorandum from team to Jeffrey May, through Susan H. Kuhbach entitled “Ministerial Error Allegation,” which is on file in the Department's Central Records Unit located in the main Commerce building in Room B-099.

Therefore, in accordance with section 751(h) of the Act, and 19 CFR 351.224(e) we are amending the Final Results of AJC from the People's Republic of China (“PRC”) to reflect the corrections noted above. Based on these revisions, we determine that the following weighted-average dumping margin exists for the period June 1, 2002, through November 30, 2002:

Exporter/manufacturer | Revised weighted-average margin percentage
Yantai Golden Tide Fruit & Vegetable Food Company | 6.34

Cash Deposit Rates

Bonding will no longer be permitted to fulfill security requirements for shipments from Golden Tide of non-frozen apple juice concentrate from the PRC entered, or withdrawn from warehouse, for consumption on or after the publication date of the amended final results of this new shipper review.

The following deposit rates will be effective upon publication of these amended final results for all shipments of AJC from the PRC entered, or withdrawn from warehouse, for consumption on or after the publication date of this notice, as provided for by section 751(a)(1) and (a)(2)(B) of the Act: (1) The cash deposit rate for Golden Tide (i.e., for subject merchandise manufactured and exported by Golden Tide) will be the rate indicated above; (2) the cash deposit rate for PRC exporters who received a separate rate in a prior segment of the proceeding will continue to be the rate assigned in that segment of the proceeding; (3) the cash deposit rate for the PRC NME entity and for subject merchandise exported by Golden Tide but not manufactured by them will continue to be the PRC-wide rate (i.e., 51.74 percent); and (4) the cash deposit rate for non-PRC exporters of subject merchandise from the PRC will be the rate applicable to the PRC exporter that supplied that exporter. These deposit requirements shall remain in effect until publication of the final results of the next administrative review.

Assessment Rates

The Department will issue appropriate assessment instructions directly to U.S. Customs and Border Protection within 15 days of publication of these amended final results of review.

This determination is issued and published in accordance with sections 751(a)(1) and 777(i) of the Act.

Dated: February 6, 2004.
James J. Jochum,
Assistant Secretary for Import Administration.

[FR Doc. 04-3103 Filed 2-11-04; 8:45 am]

BILLING CODE 3510-DS-P